DEPARTMENT OF JUSTICE

Antitrust Division

Notice Pursuant to the National Cooperative Research and Production Act of 1993—Electrical Apparatus Service Association, Inc.

Notice is hereby given that, on August 29, 2012, pursuant to Section 6(a) of the National Cooperative Research and Production Act of 1993, 15 U.S.C. 4301 et seq. (“the Act”), Electrical Apparatus Service Association, Inc. (“EASA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Electrical Apparatus Service Association, Inc., St. Louis, MO. The nature and scope of EASA's standards development activities are: EASA publishes Recommended Practice for the Repair of Rotating Electrical Apparatus. This document describes recordkeeping, tests, analysis, and general guidelines for the repair of rotating electrical apparatus, including generators and motors. The purpose of EASA documents is to establish requirements in each step of electrical apparatus rewinding and rebuilding. They are not intended to take the place of the customer's or the machine manufacturer's specific instructions or specifications. EASA standards-related documents are intended to aid in assuring the continued reliability of electrical apparatus, by providing good work practice guidance. Further, they are intended as guides for maintaining the energy efficiency of rewound and rebuilt electrical apparatus. The scope of EASA's standards activities differs from that of IEEE, NEMA, and NFPA. It is the intention of EASA to continue to reference IEEE, NEMA, and NFPA standards where they apply to a document.

Patricia A. Brink,
Director of Civil Enforcement, Antitrust Division.

[FR Doc. 2012-23407 Filed 9-21-12; 8:45 am]

BILLING CODE P